DEPARTMENT OF HEALTH AND HUMAN SERVICES

National Institutes of Health

National Center for Research Resources; Amended Notice of Meeting

Notice is hereby given of a change in the meeting of the Clinical Research Review Committee, June 5, 2002, 8 a.m. to June 6, 2002, 6 p.m., Holiday Inn—Chevy Chase, 5520 Wisconsin Avenue, Chevy Chase, MD 20815 which was published in the Federal Register on April 18, 2002, 67 FR 19195.

Meeting has been changed to a one day meeting—June 6, 2002. The location and time remains the same. The meeting is partially closed to the public.

Dated: May 9, 2002.
LaVerne Y. Stringfield,
Director, Office of Federal Advisory Committee Policy.

[FR Doc. 02-12224 Filed 5-15-02; 8:45 am]

BILLING CODE 4140-01-M